DEPARTMENT OF COMMERCE

International Trade Administration

[A-570-092]

Mattresses From the People's Republic of China: Final Results of Expedited Sunset Review of Antidumping Duty Order

AGENCY: Enforcement and Compliance, International Trade Administration, Department of Commerce.

SUMMARY: As a result of this expedited sunset review, the U.S. Department of Commerce (Commerce) finds that revocation of the antidumping duty (AD) order on mattresses from the People's Republic of China (China) would be likely to lead to the continuation or recurrence of dumping at the dumping margins identified in the “Final Results of Review” section of this notice.

DATES: Applicable February 6, 2025.

FOR FURTHER INFORMATION CONTACT: Thomas Martin, AD/CVD Operations, Office IV, Enforcement and Compliance, International Trade Administration, U.S. Department of Commerce, 1401 Constitution Avenue NW, Washington, DC 20230; telephone: (202) 482-3299.

SUPPLEMENTARY INFORMATION:

Background

On November 4, 2024, Commerce published the notice of initiation of the sunset reviews of the Order,¹ pursuant to section 751(c) of the Tariff Act of 1930, as amended (the Act).² On November 19, 2024, Commerce received a notice of intent to participate from Brooklyn Bedding LLC; Carpenter Company; Corsicana Mattress Company; Future Foam, Inc.; Kolcraft Enterprises Inc.; Leggett & Platt, Incorporated; Setera Simmons Bedding, LLC; Southerland Inc; Tempur Sealy International, Inc.; the International Brotherhood of Teamsters; and the United Steel, Paper and Forestry, Rubber, Manufacturing, Energy, Allied Industrial and Service Workers International Union, AFL-CIO (USW) (collectively, the petitioners), a group of domestic interested parties, within the 15-day period specified in 19 CFR 351.218(d)(1)(i).³ The petitioners claimed interested party status under sections 771(9)(C) and (D) of the Act, as certified unions and producers of the domestic like product in the United States.⁴

¹ See Mattresses From the People's Republic of China: Antidumping Duty Order, 84 FR 68395 (December 16, 2019) (Order).

² See Initiation of Five-Year (Sunset) Reviews, 89 FR 87543 (November 4, 2024).

³ See Petitioners' Letter, “Notice of Intent to Participate,” dated November 19, 2024.

⁴ Id. at 2-3.

On December 4, 2024, the petitioners filed an adequate substantive response within the deadline specified in 19 CFR 351.218(d)(3)(i).⁵ Commerce did not receive a substantive response from any respondent interested party. On December 26, 2024, Commerce notified the U.S. International Trade Commission (ITC) that it did not receive an adequate substantive response from respondent interested parties.⁶ As a result, pursuant to section 751(c)(3)(A) of the Act and 19 CFR 351.218(e)(1)(ii)(C)(2), Commerce conducted an expedited (120-day) sunset review of the Order.

⁵ See Petitioners' Letter, “Substantive Response to Notice of Initiation of Five-Year (Sunset) Reviews of the Antidumping Duty Order,” dated December 4, 2024.

⁶ See Commerce's Letter, “Sunset Reviews Initiated on November 4, 2024,” dated December 26, 2024.

Scope of the Order

The merchandise covered by the Order is mattresses from China. For a complete description of the scope of the Order, see the Issues and Decision Memorandum.⁷

⁷ See Memorandum, “Issues and Decision Memorandum for the Final Results of the Expedited Sunset Review of the Antidumping Duty Order on Mattresses from the People's Republic of China” dated concurrently with, and hereby adopted by, this notice (Issues and Decision Memorandum).

Analysis of Comments Received

A complete discussion of all issues raised in this sunset review, including the likelihood of the continuation or recurrence of dumping and the magnitude of the margins likely to prevail if the Order was to be revoked, is provided in the Issues and Decision Memorandum. A list of the topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed at http://access.trade.gov/public/FRNoticesListLayout.aspx.

Final Results of Sunset Review

Pursuant to sections 751(c)(1), and 752(c)(1) and (3) of the Act, Commerce determines that revocation of the Order would be likely to lead to the continuation or recurrence of dumping. We determine that the weighted-average dumping margin likely to prevail would be up to 1,731.75 percent.⁸

⁸ Id. at 3.

Administrative Protective Order (APO)

This notice serves as the only reminder to parties subject to APO of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing these final results in accordance with sections 751(c), 752(c), and 777(i)(1) of the Act, and 19 CFR 351.221(c)(5)(ii).

Dated: January 30, 2025.
Abdelali Elouaradia,
Acting Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2025-02299 Filed 2-5-25; 8:45 am]

BILLING CODE 3510-DS-P